DEPARTMENT OF VETERANS AFFAIRS

Veterans' Disability Benefits Commission; Notice of Meeting

The Department of Veterans Affairs (VA) gives notice under Public Law 92-463 (Federal Advisory Committee Act) that the Veterans' Disability Benefits Commission has scheduled a meeting for February 21-22, 2007, at the Hotel Washington, 15th Street and Pennsylvania Avenue, NW., Washington, DC. The meeting will begin at 8:30 a.m. each day. The February 21 session will end at 5:15 p.m. and the February 22 session will end at 4:30 p.m. The meeting is open to the public.

The purpose of the Commission is to carry out a study of the benefits under the laws of the United States that are provided to compensate and assist veterans and their survivors for disabilities and deaths attributable to military service.

The agenda for the meeting will feature updates on the progress of the studies being conducted by the Center for Naval Analyses (CNA) and the Institute of Medicine (IOM), to include CNA's preliminary analysis of earnings. The Commission will receive presentations on the draft site visit summary report and several draft Issue Papers in various stages of development. The Commission will also receive comments from interested parties on two topics related to specific Research Questions approved by the Commission on October 14, 2005. The two topics will be: Survivors' Concurrent Receipt (Research Question 21 addressing the SBP/DIC Offset); and Time Limit to File (Research Question 18).

Interested persons may attend and present oral statements to the Commission on February 22. Oral presentations will be limited to five minutes or less, depending on the number of participants. Interested parties may also provide written comments for review by the Commission prior to the meeting or at any time, by e-mail to veterans@vetscommission.com or by mail to Mr. Ray Wilburn, Executive Director, Veterans' Disability Benefits Commission, 1101 Pennsylvania Avenue, NW., 5th Floor, Washington, DC 20004.

Dated: January 30, 2007.
By Direction of the Secretary.
E. Philip Riggin,
Committee Management Officer.

[FR Doc. 07-491 Filed 2-2-07; 8:45 am]

BILLING CODE 8320-07-M